DEPARTMENT OF ENERGY

Trespassing on DOE Property: Portsmouth Area Site, Ohio

AGENCY: Portsmouth/Paducah Project Office, Office of Environmental Management, U.S. Department of Energy (DOE).

ACTION: Notice.

SUMMARY: DOE hereby amends and deletes specific facilities from previously published site descriptions of various DOE and contractor occupied facilities as off-limit areas. The facilities to be deleted are described in this notice. In accordance with 10 CFR part 860, it is a Federal crime under section 229 of the Atomic Energy Act of 1954, as amended (42 U.S.C. 2278a), for unauthorized persons to enter into or upon the facilities of the Portsmouth Area Site, Ohio of the United States Department of Energy, Office of Environmental Management, Portsmouth/Paducah Project Office operating area. If unauthorized entry into or upon the remaining off-limits areas is into an area enclosed by a fence, wall, floor, roof or other such structural barrier, conviction for such unauthorized entry may result in a fine not to exceed $100,000 or imprisonment for not more than one year, or both. If unauthorized entry into or upon the properties is into an area not enclosed by a fence, wall, floor, roof, or other such structural barrier, conviction for such unauthorized entry may result in a fine of not more than $5,000.¹

¹ By operation of law, the Criminal Fine Improvements Act of 1987, Pub. L. 100-185, 101 Stat. 1279 (1987), increased the fine amounts from $1000/$5000 to $5000/$100,000. See, e.g., U.S. v. Lentsch, 369 F.3d 948, 950 (6th Cir. 2004) (quoting 58 FR 47984 (Sept. 14, 1993)); see also 10 CFR 860.5.

DATES: This action is effective October 23, 2014.

FOR FURTHER INFORMATION CONTACT: Robert Edwards, III, Portsmouth/Paducah Project Office Deputy Manager, 1017 Majestic Drive, Suite 200, Lexington, KY 40513, Telephone: (859) 219-4000, Facsimile: (859) 219-4099.

Bert Gawthorp, Portsmouth/Paducah Project Office Lead Counsel, 1017 Majestic Drive, Suite 200, Lexington, KY 40513, Telephone: (859) 219-4000, Facsimile: (859) 219-4099.

SUPPLEMENTARY INFORMATION: The DOE, successor agency to the Atomic Energy Commission (AEC), is authorized, pursuant to section 229 of the Atomic Energy Act of 1954, as amended (42 U.S.C. 2278a), and section 104 of the Energy Reorganization Act of 1974 (42 U.S.C. 5814), as implemented by a final rule amending 10 CFR part 860, published in the Federal Register on September 14, 1993 (58 FR 47984-47985) and section 301 of the Department of Energy Organization Act (42 U.S.C. 7151), to prohibit unauthorized entry and the unauthorized introduction of weapons or dangerous materials into or upon any DOE facility, installation, or real property.

By notice, published in the Federal Register, July 22, 1985 (50 FR 29733-29736), DOE prohibited unauthorized entry into or upon the Portsmouth Area Site, Ohio. This present notice amends the July 22, 1985 notice by deleting the following three facilities from that notice:

(1) The Portsmouth Area Water Treatment Plant (X-611) located in the township of Scioto, Pike County, Ohio, east of State Route 23. The location of the Portsmouth Area Water Treatment Plant (X-611) is more specifically identified in the above referenced notice (50 FR 29735).

(2) The Portsmouth Area Water Pumphouse (X-608) located in the township of Seal, Pike County, Ohio, approximately 0.18 mile west of the Village of Piketon, Ohio. The location of the Portsmouth Area Water Pumphouse (X-608) is more specifically identified in the above referenced notice (50 FR 29736).

(3) The Portsmouth Area Booster Pumphouse (X-605) located in the township of Scioto, Pike County, Ohio, east of State Route 23 approximately 4 miles southeast of the Village of Piketon, Ohio. The location of the Portsmouth Area Booster Pumphouse (X-605) is more specifically identified in the above referenced notice (50 FR 29736).

Accordingly, with these three deletions from the notice of July 22, 1985, DOE amends the site description that prohibits the unauthorized entry and the unauthorized introduction of weapons or dangerous materials, as provided in 10 CFR 860.3 and 860.4 into and upon the DOE Portsmouth Area Site, Ohio.

This revised boundary replaces the property description contained in the Federal Register notice published July 22, 1985. Deletion of the three property areas cited above does not terminate the prior Portsmouth Area Site, Ohio section 229 listing. Notices stating the pertinent prohibitions of 10 CFR 860.3 and 860.4 and the penalties of 10 CFR 860.5 are posted at all entrances of the Portsmouth Area Site, Ohio and at intervals along their perimeters, as provided in 10 CFR 860.6.

Issued in Lexington, Kentucky, this 29th day of August 2014.
William E. Murphie,
Manager, Portsmouth/Paducah Project Office.

[FR Doc. 2014-25233 Filed 10-22-14; 8:45 am]

BILLING CODE 6450-01-P